DEPARTMENT OF COMMERCE

Foreign-Trade Zones Board

[S-216-2024]

Foreign-Trade Zone 143; Application for Subzone; Robert Bosch Semiconductor LLC; Roseville, California

An application has been submitted to the Foreign-Trade Zones (FTZ) Board by the Sacramento-Yolo Port District, grantee of FTZ 143, requesting subzone status for the facility of Robert Bosch Semiconductor LLC, located in Roseville, California. The application was submitted pursuant to the provisions of the Foreign-Trade Zones Act, as amended (19 U.S.C. 81a-81u), and the regulations of the FTZ Board (15 CFR part 400). It was formally docketed on December 10, 2024.

The proposed subzone (16.22 acres) is located at 7501 Foothills Blvd., Roseville, California. A notification of proposed production activity has been submitted and is being processed under 15 CFR 400.37 (Doc. B-54-2024). The proposed subzone would be subject to the existing activation limit of FTZ 143.

In accordance with the FTZ Board's regulations, Qahira El-Amin of the FTZ Staff is designated examiner to review the application and make recommendations to the Executive Secretary.

Public comment is invited from interested parties. Submissions shall be addressed to the FTZ Board's Executive Secretary and sent to: ftz@trade.gov. The closing period for their receipt is January 27, 2025. Rebuttal comments in response to material submitted during the foregoing period may be submitted through February 10, 2025.

A copy of the application will be available for public inspection in the “Online FTZ Information Section” section of the FTZ Board's website, which is accessible via www.trade.gov/ftz.

For further information, contact Qahira El-Amin at Qahira.El-Amin@trade.gov.

Dated: December 10, 2024.
Camille R. Evans,
Acting Executive Secretary.

[FR Doc. 2024-29528 Filed 12-13-24; 8:45 am]

BILLING CODE 3510-DS-P